DEPARTMENT OF COMMERCE

International Trade Administration

Subsidy Programs Provided by Countries Exporting Softwood Lumber and Softwood Lumber Products to the United States; Request for Comment; Correction

AGENCY: Enforcement and Compliance, International Trade Administration, Department of Commerce.

SUMMARY: On March 30, 2023, the U.S. Department of Commerce (Commerce) published a notice in the Federal Register, in which Commerce requested public comment on any subsidies, including stumpage subsidies, provided by certain countries exporting softwood lumber or softwood lumber products to the United States during the period July 1, 2022, through December 31, 2022. That notice contains an incorrect docket number for the filing of comments.

DATES: Applicable April 19, 2023.

FOR FURTHER INFORMATION CONTACT: Kristen Johnson, AD/CVD Operations, Enforcement and Compliance, International Trade Administration, U.S. Department of Commerce, 1401 Constitution Avenue NW Washington, DC 20230; telephone: (202) 482-4793.

SUPPLEMENTARY INFORMATION:

Correction

In the Federal Register of March 30, 2023, in FR Doc 2023-06610, on page 19070, Commerce incorrectly listed Docket No. ITA—2023-002 for the filing of subsidy comments at https://www.regulations.gov. The correct number is Docket No. ITA—2023-0002.

Background

On March 30, 2023, Commerce published the Request for Comment in the Federal Register.¹ Within the notice, Commerce solicited public comment on subsidies provided by Austria, Brazil, Canada, Germany, Romania, and Sweden, which had exports accounting for at least one percent of total U.S. imports of softwood lumber during the period July 1, 2022, through December 31, 2022.

¹ See Subsidy Programs Provided by Countries Exporting Softwood Lumber and Softwood Lumber Products to the United States; Request for Comment, 88 FR 19069 (March 30, 2023) (Request for Comment).

Any comments must be submitted through the Federal eRulemaking Portal at https://www.regulations.gov, Docket No. ITA-2023-0002 and addressed to Ryan Majerus, Deputy Assistant Secretary for Policy and Negotiations, at U.S. Department of Commerce, 1401 Constitution Avenue NW, Washington, DC 20230. Comments must be received no later than May 1, 2023, which is 30 days after the publication of the Request for Comment.²

² Because 30 days from March 30, 2023 is April 29, 2023, which is a Saturday, the deadline for the filing of comments moves to Monday, May 1, 2023.

Dated: April 13, 2023.
Ryan Majerus,
Deputy Assistant Secretary for Policy and Negotiations.

[FR Doc. 2023-08267 Filed 4-18-23; 8:45 am]

BILLING CODE 3510-DS-P